DEPARTMENT OF COMMERCE

National Oceanic and Atmospheric Administration

[I.D. 041000B] [A]

Notice of Decision and Availability of Decision Documents on the Issuance of a Permit for Incidental Takes of Threatened and Endangered Species

AGENCY: National Marine Fisheries Service (NMFS), National Oceanic and Atmospheric Administration, Commerce.

ACTION: Notice of decision and availability of decision documents on the issuance of a permit (1233) for incidental takes of endangered and threatened species.

SUMMARY: This notice advises the public that a decision on the application for an incidental take permit by the State of Idaho Department of Fish and Game (IDFG), pursuant to section 10(a)(1)(B) of the Endangered Species Act of 1973 (ESA), has been made and that the decision documents are available upon request.

DATES: Permit 1233 was issued on May 26, 2000, subject to certain conditions set forth therein, and expires on December 31, 2004.

ADDRESSES: Requests for copies of the decision documents or any of the other associated documents should be directed to the Hatcheries and Inland Fisheries Branch, Sustainable Fisheries Division, F/NWO3, NMFS, 525 NE Oregon Street, Suite 510, Portland, OR 97232-2737 (503-230-5407).

FOR FURTHER INFORMATION CONTACT: Herbert Pollard, Portland, OR, at phone number: (208) 378-5614, fax: (208) 378-5699, or e-mail: Herbert.Pollard@noaa.gov

SUPPLEMENTARY INFORMATION: The following species and evolutionary significant units (ESU's) are covered in the permit: Chinook salmon (Oncorhynchus tshawytscha): threatened Snake River (SnR) spring/summer, threatened SnR fall.

Sockeye salmon (O. nerka): endangered SnR.

Steelhead (O. mykiss): threatened SnR.

Decision

Notice was published on April 19, 2000 (65 FR 20951) that IDFG applied for a section 10(a)(1)(B) permit for annual incidental takes of ESA-listed anadromous fish associated with otherwise lawful recreational fisheries on non-listed species in the Snake, Salmon, and Clearwater River Basins and the Stanley Basin lakes in the State of Idaho in the Pacific Northwest. IDFG submitted a Conservation Plan with its permit application that describes measures designed to monitor, minimize, and mitigate the incidental taking of ESA-listed anadromous salmonids associated with the sport-fisheries, some or all of which are expected to occur annually for the duration of the permit.

NMFS' decision is to adopt the preferred alternative in the Conservation Plan together with the preferred alternative in the Environmental Assessment that was completed for this permit action and issue a permit with conditions authorizing incidental takes of the ESA-listed anadromous fish species. This decision is based on a thorough review of the alternatives and their environmental consequences. NMFS' conditions will ensure that the incidental takes of ESA-listed anadromous fish will not appreciably reduce the likelihood of the survival and recovery of the species in the wild. By adopting the preferred alternative in the Conservation Plan, with the Conservation Plan's stated assurances that IDFG's mitigation program will be implemented, all practicable means to avoid or minimize harm have been adopted.

IDFG requested an annual incidental take of threatened SnR steelhead. Protective regulations are currently proposed for SnR steelhead (64 FR 73479, December 30, 1999). NMFS did not act on that part of IDFG's permit application. In the future, when NMFS promulgates final rules under section 4(d) of the ESA that will provide take prohibitions for threatened SnR steelhead, NMFS may amend the permit to include the authorization for an incidental take of this species as IDFG requested in its application. Issuance of the permit does not presuppose the contents of the eventual protective regulations.

Rationale for Decision

The decision to issue the permit was made because the Conservation Plan proposed by IDFG meets the statutory criteria for issuance of an incidental take permit under section 10 of the ESA. In issuing the permit, NMFS determined that IDFG's Conservation Plan provides adequate mitigation measures to avoid, minimize, and/or compensate for the anticipated takes of ESA-listed anadromous fish.

The permit was granted only after NMFS determined that the permit was applied for in good faith, that all permit issuance criteria were met, including the requirement that granting the permit would not jeopardize the continued existence of the species, and that the permit is consistent with the purposes and policies set forth in the Endangered Species Act of 1973, as amended.

Dated: June 9, 2000.
Wanda L. Cain,
Chief, Endangered Species Division, Office of Protected Resources, National Marine Fisheries Service.

[FR Doc. 00-15177 Filed 6-14-00; 8:45 am]

BILLING CODE 3510-22-F